DEPARTMENT OF TRANSPORTATION

Federal Aviation Administration

[Docket No. FAA-2025-18382]

Agency Information Collection Activities: Requests for Comments; Clearance of Renewed Approval of Information Collection: Small Unmanned Aircraft Registration System

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 23, 2025. The collection involves inputting minimal information into a database to register small, unmanned aircraft. Aircraft registration is necessary to ensure personal accountability among all users of the National Airspace System (NAS). Aircraft registration also allows the FAA and law enforcement agencies to address non-compliance by providing the means for identifying an aircraft's owner and operator. This collection also permits individuals to de-register or update their record in the registration database.

DATES: Written comments should be submitted by March 2, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Shantel Young by email at: shantel.young@FAA.gov; phone: 405-954-7077.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0765.

Title: Small Unmanned Aircraft Registration System.

Form Numbers: None.

Type of Review: Renewal of an information collection.

Background: The Federal Register Notice with a 60-day comment period soliciting comments on the following collection of information was published on September 23, 2025 (90 FR 45890). There were three comments received. The FAA received two recommendations that would require amendments to part 48 and part 107 which are beyond the information collections scope. One comment was received recommending sensor logs and operational restrictions which are beyond the information collections scope. The Secretary of the Department of Transportation (DOT) and the Administrator of the Federal Aviation Administration (FAA) affirmed that all unmanned aircraft, including model aircraft, are aircraft. As such, in accordance with 49 U.S.C. 44101(a) and as further prescribed in 14 CFR part 48, registration is required prior to operation. See 80 FR 63912, 63913 (October 22, 2015). Registration allows the FAA to provide respondents with educational materials regarding safety of flight in the NAS to promote greater accountability and responsibility of these new users. Registration also allows the FAA and law enforcement agencies to address non-compliance by providing the means for identifying an aircraft's owner and operator.

Subject to certain exceptions discussed below, aircraft must be registered prior to operation. See 49 U.S.C. 44101-44103. Upon registration, the Administrator must issue a certificate of registration to the aircraft owner. See 49 U.S.C. 44103.

Registration, however, does not provide the authority to operate. Persons intending to operate a small unmanned aircraft must operate in accordance with the exception for limited recreational operations (49 U.S.C. 44809), part 107 or part 91, in accordance with a waiver issued under part 107, in accordance with an exemption issued under 14 CFR part 11 (including those persons operating under an exemption issued pursuant to 49 U.S.C. 44807), or in conjunction with the issuance of a special airworthiness certificate, and are required to register.

Respondents: 235,166 registrants and 228,911 de-registrants in CY2024.

Frequency: On occasion.

Estimated Average Burden per Response: 5 minutes to register and 3 minutes to de-register.

Estimated Total Annual Burden: Approximately 19,597 hours to register and 11,445 to de-register.

Issued in Oklahoma City, OK, on January 27, 2026
Shantel Young
Management and Program Analyst, Civil Aviation Registry, Aircraft Registration Branch AFB-710

[FR Doc. 2026-01798 Filed 1-28-26; 8:45 am]

BILLING CODE 4910-13-P